DEPARTMENT OF AGRICULTURE

Animal and Plant Health Inspection Service

[Docket No. APHIS-2017-0086]

Availability of a Final Environmental Assessment and Finding of No Significant Impact for Release of Aceria drabae for Biological Control of Hoary Cress

AGENCY: Animal and Plant Health Inspection Service, USDA.

ACTION: Notice.

SUMMARY: We are advising the public that an environmental assessment and finding of no significant impact have been prepared by the Animal and Plant Health Inspection Service relative to the release of the gall mite, Aceria drabae, for classical biological control of hoary cress in the contiguous United States. Based on its finding of no significant impact, the Animal and Plant Health Inspection Service has determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: The Animal and Plant Health Inspection Service (APHIS) is proposing to issue permits for the release of a mite, Aceria drabae, into the continental United States for use as a biological control agent to reduce the severity of hoary cress infestations.

On December 5, 2017, we published in the Federal Register (82 FR 57424-57425, Docket No. APHIS-2017-0086) a notice ¹ in which we announced the availability, for public review and comment, of an environmental assessment (EA) that examined the potential environmental impacts associated with the proposed release of this biological control agent into the continental United States.

¹ To view the notice, EA, and FONSI, and the comment we received, go to http://www.regulations.gov/#!docketDetail;D=APHIS-2017-0086.

We solicited comments on the EA for 30 days ending January 4, 2018. We received one comment by the close of the comment period. The commenter was generally opposed to the release of insects for biological control but did not raise any specific or substantive issues.

In this document, we are advising the public of our finding of no significant impact (FONSI) regarding the release of Aceria drabae into the continental United States for use as a biological control agent to reduce the severity of hoary cress infestations. The finding, which is based on the EA, reflects our determination that release of this biological control agent will not have a significant impact on the quality of the human environment.

The EA and FONSI may be viewed on the Regulations.gov website (see footnote 1). Copies of the EA and FONSI are also available for public inspection in our reading room, which is located in room 1141 of the USDA South Building, 14th Street and Independence Avenue SW, Washington, DC. Normal reading room hours are 8 a.m. to 4:30 p.m., Monday through Friday, except holidays. To be sure someone is there to help you, please call (202) 799-7039 before coming. In addition, copies may be obtained by calling or writing to the individual listed under FOR FURTHER INFORMATION CONTACT.

The EA and FONSI have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 15th day of February 2018.
Kevin Shea,
Administrator, Animal and Plant Health Inspection Service.

[FR Doc. 2018-03552 Filed 2-21-18; 8:45 am]

BILLING CODE 3410-34-P